FEDERAL MINE SAFETY AND HEALTH REVIEW COMMISSION

Sunshine Act Notice; Cancellation of Meeting Notice

December 9, 2014.

The following Commission meeting has been cancelled. No earlier announcement of the cancellation was possible.

TIME AND DATE: 10:00 a.m., Thursday, December 11, 2014

PLACE: The Richard V. Backley Hearing Room, Room 511N, 1331 Pennsylvania Avenue NW, Washington, DC 20004 (enter from F Street entrance)

STATUS: Open

MATTERS TO BE CONSIDERED: The Commission will consider and act upon the following in open session: Secretary of Labor v. Excel Mining, LLC, Docket No. KENT 2009-1368. (Issues include whether the Administrative Law Judge erred by affirming a “significant and substantial” designation and an “unwarrantable failure to comply” designation.)

Any person attending this meeting who requires special accessibility features and/or auxiliary aids, such as sign language interpreters, must inform the Commission in advance of those needs. Subject to 29 CFR 2706.150(a)(3) and § 2706.160(d).

CONTACT PERSON FOR MORE INFO: Emogene Johnson (202) 434-9935/(202) 708-9300 for TDD Relay/1-800-877-8339 for toll-free.

Sarah L. Stewart,
Deputy General Counsel.

[FR Doc. 2014-29150 Filed 12-9-14; 11:15 am]

BILLING CODE 6735-01-P